NUCLEAR REGULATORY COMMISSION

[NRC-2008-0588]

Final Regulatory Guide: Issuance, Availability

AGENCY: Nuclear Regulatory Commission.

ACTION: Notice of Issuance and Availability of Regulatory Guide (RG) 1.21, Revision 2.

FOR FURTHER INFORMATION CONTACT: Steven Garry, U.S. Nuclear Regulatory Commission, Washington, DC 20555-0001, telephone: (301) 415-2766 or e-mail Steven.Garry@nrc.gov.

SUPPLEMENTARY INFORMATION:

I. Introduction

The U.S. Nuclear Regulatory Commission (NRC) is issuing a guide in the agency's “Regulatory Guide” series. This series was developed to describe and make available to the public information such as methods that are acceptable to the NRC staff for implementing specific parts of the agency's regulations, techniques that the staff uses in evaluating specific problems or postulated accidents, and data that the staff needs in its review of applications for permits and licenses.

RG 1.21, Rev. 2, “Measuring, Evaluating, and Reporting Radioactive Material in Liquid and Gaseous Effluents and Solid Waste,” was issued with a temporary identification as Draft Regulatory Guide, DG-1186. This guide describes a method that the staff of the NRC considers acceptable for use in measuring, evaluating, and reporting plant-related radioactivity (excluding background radiation) in effluents and solid radioactive waste shipments. The regulatory guide also provides guidance on determining and reporting the public dose from nuclear power plant operations.

This guide incorporates the risk-informed principles of the Reactor Oversight Process. A risk-informed, performance-based approach to regulatory decision-making combines the “risk-informed” and “performance-based” elements discussed in the staff requirements memorandum on SECY-98-144, “White Paper on Risk-Informed and Performance-Based Regulation,” dated March 1, 1999.

II. Further Information

In November 2008, DG-1186 was issued for public comment. The public comment period closed on January 30, 2009. The staff's responses to the public comments received are located in the NRC's Agencywide Documents Access and Management System under Accession Number ML091170117. Electronic copies of RG 1.21, Rev. 2 are available through the NRC's public Web site under “Regulatory Guides” at http://www.nrc.gov/reading-rm/doc-collections/.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, MD, this 10th day of June 2009.
For the Nuclear Regulatory Commission.
R.A. Jervey,
Acting Chief, Regulatory Guide Development Branch, Division of Engineering, Office of Nuclear Regulatory Research.

[FR Doc. E9-14422 Filed 6-18-09; 8:45 am]

BILLING CODE 7590-01-P